SMALL BUSINESS ADMINISTRATION

[Declaration of Disaster #3606]

State of Texas

Dallas County and the contiguous counties of Collin, Denton, Ellis, Kaufman, Tarrant, and Rockwall in the State of Texas constitute a disaster area due to excessive rain and flooding that occurred on July 28 through July 29, 2004. Applications for loans for physical damage as a result of this disaster may be filed until the close of business on October 5, 2004, and for economic injury until the close of business on May 5, 2005, at the address listed below or other locally announced locations: U.S. Small Business Administration, Disaster Area 3 Office, 14925 Kingsport Road, Fort Worth, TX 76155-2243.

The interest rates are:

| Percent
For Physical Damage:
Homeowners with credit available elsewhere | 6.375
Homeowners without credit available elsewhere | 3.187
Businesses with credit available elsewhere | 5.800
Businesses and non-profit organizations without credit available elsewhere | 2.900
Others (including non-profit organizations) with credit available elsewhere | 4.875
For Economic Injury:
Businesses and small agricultural cooperatives without credit available elsewhere | 2.900

The number assigned to this disaster for physical damage is 360606 and for economic injury the number is 9ZN700.

(Catalog of Federal Domestic Assistance Program Nos. 59002 and 59008)

Dated: August 5, 2004.
Hector V. Barreto,
Administrator.

[FR Doc. 04-18698 Filed 8-13-04; 8:45 am]

BILLING CODE 8025-01-P